DEPARTMENT OF HEALTH AND HUMAN SERVICES

Office of the Secretary

Findings of Research Misconduct

AGENCY: Office of the Secretary, HHS.

ACTION: Notice.

SUMMARY: Notice is hereby given that the Office of Research Integrity (ORI) and the Assistant Secretary for Health have taken final action in the following case:

Lingjie Zhao, University of Iowa: Based on the investigation reports drafted by the University of Iowa (UI) and additional analysis conducted by ORI in its oversight review, the U.S. Public Health Service (PHS) found that Lingjie Zhao, former Doctoral Student, UI, engaged in research misconduct. The research was supported by National Cancer Institute (NCI), National Institutes of Health (NIH), grant P01 CA66081.

PHS found that Ms. Zhao engaged in research misconduct by falsifying research records included in: (a) A manuscript submitted for publication in Cancer Research, (b) drafts of her work reported in the laboratory, and (c) drafts of her work reported to her dissertation committee. Specifically, PHS found:

1. That Ms. Zhao darkened with a marking device the thioredoxin (Trx) band of Lanes 1 and 2 on the autoradiographic film that was to become part of Figure 9 of the manuscript.

2. That Ms. Zhao (a) falsified this same original film of the western blot by darkening Lanes 1, 2, 4, and 5 with a marking device at the origin of the gel and (b) further falsified Figure 9 of the Cancer Research manuscript by claiming falsely that these marked bands were thioredoxin reductase (TR) untreated and with mismatch oligodeoxynucleotide in the presence and absence of tumor necrosis factor alpha.

3. That Ms. Zhao falsified the glutathione reductase (GR) activity data in either Figure 4 or Figure 9 of the Cancer Research manuscript (the data are identical but stated to be from entirely different experimental conditions).

4. That Ms. Zhao falsified the actin data in either Figure 4 or Figure 9 of the Cancer Research manuscript or in the experiments simultaneously using Prx III-As and Phospholipid hydroperoxide glutathione peroxidase-As reported in slide presentations (the actin data are identical under 3 entirely different experimental conditions).

5. That Ms. Zhao falsified the manganese superoxide dismutase (MnSOD) data in either Figure 1A or Figure 4 of the Cancer Research manuscript (these MnSOD data are identical while being clearly described as coming from different experiments).

6. That Ms. Zhao falsified the MnSOD data in Figure 2 of the Cancer Research manuscript by enhancing with a marking device Lanes 6 and 7, mismatch and antisense Prx oligos at 3 days of incubation (unmarked, Prx III-As decreased the expression of MnSOD).

Ms. Zhao has entered into a Voluntary Exclusion Agreement in which she has voluntarily agreed, for a period of three (3) years, beginning on June 3, 2006:

(1) To exclude herself from any contracting or subcontracting with any agency of the United States Government and from eligibility or involvement in nonprocurement programs of the United States Government as defined in the debarment regulations at 45 CFR part 76;

(2) To exclude herself from serving in any advisory capacity to PHS including, but not limited, to service on any PHS advisory committee, board, and/or peer review committee, or as consultant.

FOR FURTHER INFORMATION CONTACT: Director, Division of Investigative Oversight, Office of Research Integrity, 1101 Wootton Parkway, Suite 750, Rockville, MD 20852. (240) 453-8800.

Chris B. Pascal,
Director, Office of Research Integrity.

[FR Doc. E6-10440 Filed 7-3-06; 8:45 am]

BILLING CODE 4150-31-P